DEPARTMENT OF COMMERCE

International Trade Administration

[A-570-086, A-549-839]

Steel Propane Cylinders From the People's Republic of China and Thailand: Postponement of Preliminary Determinations in the Less-Than-Fair-Value Investigations

AGENCY: Enforcement and Compliance, International Trade Administration, Department of Commerce

DATES: Applicable October 15, 2018.

FOR FURTHER INFORMATION CONTACT: Jonathan Cornfield or Laura Griffith at (202) 482-3855, or (202) 482-6430, respectively (People's Republic of China (China)) and Cindy Robinson or Stephanie Moore at (202) 482-3797, or (202) 482-3692, respectively (Thailand), AD/CVD Operations, Enforcement and Compliance, International Trade Administration, U.S. Department of Commerce, 1401 Constitution Avenue NW, Washington, DC 20230.

SUPPLEMENTARY INFORMATION:

Background

On June 11, 2018, the Department of Commerce (Commerce) initiated less-than-fair-value (LTFV) investigations of imports of steel propane cylinders from China, Taiwan, and Thailand.¹ On June 20, 2018, Commerce terminated its antidumping duty investigation of imports of steel propane cylinders from Taiwan, following the petitioners'² withdrawal of the petition and request that the investigation be terminated.³ Because Commerce has terminated its investigation of steel propane cylinderes from Taiwan, the U.S. International Trade Commission (ITC)'s investigation is also terminated.⁴ The preliminary determinations for China and Thailand are currently due no later than October 29, 2018.

¹ See Steel Propane Cylinders from the People's Republic of China, Taiwan, and Thailand: Initiation of Less-Than-Fair-Value Investigations, 83 FR 28196 (June 18, 2018).

² The petitioners are Worthington Industries and Manchester Tank &, Equipment Co.

³ See Steel Propane Cylinders from Taiwan: Termination of Less-Than-Fair-Value Investigation, 83 29748 (June 26, 2018).

⁴ See ITC Investigation No. 731-TA-1418 (Preliminary). See also Steel Propane Cylinders from Taiwan, Termination of Investigation, 83 FR 31174 (July 3, 2018).

Postponement of Preliminary Determinations

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.⁵

⁵ See 19 CFR 351.205(e).

On October 1, 2018, the petitioners submitted timely requests to postpone the preliminary determinations in these LTFV investigations.⁶ The petitioners stated that they requested postponement because Commerce is still gathering data and questionnaire responses from the foreign producers in these investigations, and additional time is necessary for interested parties to respond to additional requests from Commerce before Commerce makes its preliminary determinations.

⁶ See letter from the petitioners, “Steel Propane Cylinders from the People's Republic of China and Thailand—Petitioners' Request to Extend the Preliminary Antidumping Duty Determination” dated October 1, 2018.

For the reasons stated above and because there are no compelling reasons to deny the petitioners' request, Commerce, in accordance with section 733(c)(1)(A) of the Act, is postponing the deadline for the preliminary determinations by 50 days (i.e., 190 days after the date on which these investigations were initiated). As a result, Commerce will issue its preliminary determinations no later than December 18, 2018. In accordance with section 735(a)(1) of the Act and 19 CFR 351.210(b)(1), the deadline for the final determinations of these investigations will continue to be 75 days after the date of the preliminary determinations, unless postponed at a later date.

This notice is issued and published pursuant to section 733(c)(2) of the Act and 19 CFR 351.205(f)(1).

Dated: October 9, 2018.
Gary Taverman,
Deputy Assistant Secretary for Antidumping and Countervailing Duty Operations, performing the non-exclusive functions and duties of the Assistant Secretary for Enforcement and Compliance.

[FR Doc. 2018-22367 Filed 10-12-18; 8:45 am]

BILLING CODE 3510-DS-P